FEDERAL MARITIME COMMISSION

[Docket No. 10-02]

BDP International, Inc. v. United Transport Tankcontainers, Inc.; Notice of Filing of Complaint and Assignment

Notice is given that a complaint has been filed with the Federal Maritime Commission (“Commission”) by BPD International, Inc. (“BPD”), hereinafter “Complainant,” against United Transport Tankcontainers, Inc. (“United”), hereinafter “Respondent.” Complainant asserts that it is a corporation organized and existing pursuant to the laws of Pennsylvania and an FMC licensed freight forwarder. Complainant asserts that Respondent is a corporation organized and existing pursuant to the laws of Delaware and is a licensed and bonded non-vessel-operating common carrier.

Complainant asserts that by failing to pay freight forwarder compensation to Complainant pursuant to Respondent's published tariff, Respondent violated Section 10(b)(2)(a) of the Shipping Act of 1984, 46 U.S.C. 41104(2), which prohibits provision of service that is not in accordance with the rates, charges, classifications, rules, and practices contained in a tariff. Complainant asserts that as a direct consequence of Respondent's unlawful conduct, Complainant has suffered damages in the amount of $143,765.63. Complainant requests that the Commission compel Respondent to answer the charges made by Complainant; that the Commission hold that Respondent's actions were in violation of the Act; that the Commission award reparations to Complainant of $143,765.63, in addition to interest, costs and attorney's fees; and order any such other and further relief as the Commission deems just and proper.

This proceeding has been assigned to the Office of Administrative Law Judges. Hearing in this matter, if any is held, shall commence within the time limitations prescribed in 46 CFR. 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record.

Pursuant to the further terms of 46 CFR. 502.61, the initial decision of the presiding officer in this proceeding shall be issued by March 28, 2011 and the final decision of the Commission shall be issued by July 26, 2011.

Karen V. Gregory,
Secretary.

[FR Doc. 2010-7274 Filed 4-1-10; 8:45 am]

BILLING CODE P